DEPARTMENT OF COMMERCE

International Trade Administration

[A-570-164, A-549-849, A-552-839]

Certain Paper Plates From the People's Republic of China, Thailand, and the Socialist Republic of Vietnam: Postponement of Preliminary Determinations in the Less-Than-Fair-Value Investigations

AGENCY: Enforcement and Compliance, International Trade Administration, Department of Commerce.

DATES: Applicable June 12, 2024.

FOR FURTHER INFORMATION CONTACT: Toni Page (the People's Republic of China (China)); Ted Pearson (Thailand); and Bryan Hansen (the Socialist Republic of Vietnam (Vietnam)), AD/CVD Operations, Enforcement and Compliance, International Trade Administration, U.S. Department of Commerce, 1401 Constitution Avenue NW, Washington, DC 20230; telephone: (202) 482-1398, (202) 482-2631, and (202) 482-3683, respectively.

SUPPLEMENTARY INFORMATION:

Background

On February 14, 2024, the U.S. Department of Commerce (Commerce) initiated less-than-fair-value (LTFV) investigations on imports of certain paper plates (paper plates) from China, Thailand, and Vietnam.¹ Currently, the preliminary determinations are due no later than July 3, 2024.

¹ See Certain Paper Plates from the People's Republic of China, Thailand, and the Socialist Republic of Vietnam: Initiation of Less-Than-Fair-Value Investigations, 89 FR 14046 (February 26, 2024) (Initiation Notice).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 28, 2024, the petitioner ² submitted a timely request that Commerce postpone the preliminary determinations in these LTFV investigations.³ The petitioner stated that it requests postponement because Commerce has not yet received full initial questionnaire responses from the mandatory respondents in all three investigations and needs additional time to review the responses and issue supplemental questionnaires to address issues in the respondents' questionnaire responses.⁴

² The petitioner is the American Paper Plate Coalition. The members of the petitioner are AJM Packaging Corporation, Aspen Products, Inc., Dart Container Corporation, Hoffmaster Group, Inc., Huhtamaki Americas, Inc., and Unique Industries, Inc.

³ See Petitioner's Letter, “Request to Postpone Preliminary Antidumping Duty Determinations,” dated May 28, 2024.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than August 22, 2024. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: June 5, 2024.
Ryan Majerus,
Deputy Assistant Secretary for Policy and Negotiations, performing the non-exclusive functions and duties of the Assistant Secretary for Enforcement and Compliance.

[FR Doc. 2024-12832 Filed 6-11-24; 8:45 am]

BILLING CODE 3510-DS-P